DEPARTMENT OF TRANSPORTATION

Federal Aviation Administration

Supplemental Notice of Intent To Prepare an Environmental Assessment and Request for Public Scoping Comments for the Air Tour Management Plan Program at Mount Rainier National Park

AGENCY: Federal Aviation Administration (FAA).

ACTION: Supplemental Notice of Intent To Prepare an Environmental Assessment and to request public scoping comments.

SUMMARY: The FAA, with National Park Service (NPS) as a cooperating agency, has initiated development of an Air Tour Management Plan (ATMP) for Mount Rainier National Park (MORA), pursuant to the National Parks Air Tour Management Act of 2000 (Pub. L. 106-181) and its implementing regulations (14 CFR Part 136, Subpart B, National Parks Air Tour Management). The objective of the ATMP is to develop acceptable and effective measures to mitigate or prevent the significant adverse impacts, if any, of commercial air tour operations upon the natural resources, cultural resources, and visitor experiences of a national park unit and any tribal lands within or abutting the park. It should be noted that the ATMP has no authorization over other non-air-tour operations such as military and general aviation operations. In compliance with the National Environmental Policy Act of 1969 (NEPA) and FAA Order 1050.1E, CHG 1, an Environmental Assessment is being prepared. This supplemental notice of intent extends the date by which scoping comments must be submitted (see DATES) because the original Federal Register notice published on April 2, 2010 (Vol. 75, No. 63, 16899-16900) referenced a link to the FAA Web site that had the wrong public scoping packet. The correct public scoping packet has now been posted.

In October 2009, the NPS and FAA held a two-day kickoff meeting at MORA; minutes may be found at: http://www.faa.gov/about/office_org/headquarters_offices/arc/programs/air_tour_management_plan/park_specific_plans/mountrainier.cfm.

The purpose of the kickoff meeting was for the FAA and NPS to have the opportunity to share information regarding environmental and other issues to consider in the development of an ATMP. Materials presented at the meeting included information on: park resources; the acoustical environment at MORA; current and historical air tour operations; and representative air tour flight paths. In addition, MORA staff provided information regarding sensitive park resources, tribal concerns, and tourism patterns. Based on input received at the meeting, the FAA and NPS have decided to proceed with developing the ATMP at MORA with an Environmental Assessment (EA).

The FAA and NPS are now inviting the public, agencies, tribes, and other interested parties to provide comments, suggestions, and input on the scope of issues to be addressed in the environmental process.

DATES: By this notice, the FAA is requesting comments on the scope of the environmental assessment for the ATMP at Mount Rainier National Park. Comments must be submitted by May 12, 2010.

FOR FURTHER INFORMATION CONTACT: Keith Lusk—Mailing address: P.O. Box 92007, Los Angeles, California 90009-2007. Telephone: (310) 725-3808. Street address: 15000 Aviation Boulevard, Lawndale, California 90261. E-mail: Keith.Lusk@faa.gov. Written comments on the scope of the Environmental Assessment should be submitted electronically via the electronic public comment form on the NPS Planning, Environment and Public Comment System at: http://parkplanning.nps.gov/projectHome.cfm?parkId=323&projectId=29122, or sent to the mailing address or e-mail address above.

SUPPLEMENTARY INFORMATION: A public scoping packet that describes the project in greater detail is available at:

• http://www.faa.gov/about/office_org/headquarters_offices/arc/programs/air_tour_management_plan/park_specific_plans/mountrainier.cfm.

• Longmire Museum, Mount Rainier National Park.

• Henry M Jackson Memorial Visitor Center at Paradise, Mount Rainier National Park.

• Ohanapecosh Visitor Center, Mount Rainier National Park.

• Sunrise Visitor Center, Mount Rainier National Park.

• Eatonville Library.

• Puyallup Library.

• Enumclaw City Library.

• Buckley Library.

• Tacoma Public Library.

• Yakima Valley Regional Library.

• Environmental Ctr. Resource Library, Huxley College of Environmental Studies, Western Washington University.

• http://parkplanning.nps.gov/projectHome.cfm?parkId=323&projectId=29122.

Notice Regarding FOIA: Individuals may request that their name and/or address be withheld from public disclosure. If you wish to do this, you must state this prominently at the beginning of your comment. Commentators using the Web site can make such a request by checking the box “keep my contact information private.” Such requests will be honored to the extent allowable by law, but you should be aware that pursuant to the Freedom of Information Act, your name and address may be disclosed. We will make all submissions from organizations, businesses, and from individuals identifying themselves as representatives or officials of organizations or businesses available for public inspection in their entirety.

Issued in Hawthorne, CA, on April 5, 2010.
Keith Lusk,
Program Manager, Special Programs Staff, Western-Pacific Region.

[FR Doc. 2010-8194 Filed 4-9-10; 8:45 am]

BILLING CODE P